DEPARTMENT OF TRANSPORTATION

Transportation Security Administration

[Docket No. TSA-2002-11334]

RIN 2110-AA02

Reports, Forms and Record Keeping Requirements; OMB Approval of Agency Information Collection Activity

AGENCY: Transportation Security Administration, DOT.

ACTION: Notice.

SUMMARY: Pursuant to the Aviation and Transportation Security Act, Public Law 107-71, November 19, 2001, the Transportation Security Administration (TSA) imposed a fee, known as the Aviation Security Infrastructure Fee, on air carriers and foreign air carriers engaged in air transportation, foreign air transportation, and intrastate air transportation that is necessary to help defray the costs of providing U.S. civil aviation security services. The Interim Final Rule (IFR) imposing the Aviation Security Infrastructure Fee contains information collection requirements. On February 20, 2002, the Federal Register published this IFR, which was effective February 18, 2002, and it may be reviewed at 67 FR 7926.

The IFR indicates that, pursuant to 5 CFR 1320.13, Emergency processing, TSA has asked the Office of Management and Budget (OMB) for temporary emergency approval for the information collection contained therein. The IFR states TSA's estimated costs, estimated burden hours, and other calculations regarding the information collection that TSA submitted to OMB. It also solicits comments regarding any aspect of the information collection requirements.

This Notice serves to inform the public that on February 13, 2002, OMB approved the information collection contained in the IFR and assigned it OMB control number 2110-0002. The information collection is approved through August 31, 2002. During this time period, TSA will apply to OMB for a three-year extension of the information collection approval.

FOR FURTHER INFORMATION CONTACT: Rita Maristch, Office of the General Counsel, Office of Environmental, Civil Rights, and General Law, Department of Transportation (C-10), 400 Seventh Street, SW., Room 10102, Washington, DC 20590, (202) 366-9161 (voice), (202) 366-9170 (fax). You may also contact Steven Cohen, Office of the General Counsel (C-10), at (202) 366-4684.

Issued on: February 25, 2002.
Rosalind A. Knapp,
Deputy General Counsel, Department of Transportation.

[FR Doc. 02-4946 Filed 2-26-02; 2:45 pm]

BILLING CODE 4910-62-P